DEPARTMENT OF STATE

[Public Notice 4251]

Bureau of Educational and Cultural Affairs Request for Grant Proposals: International Visitor Program Assistance Awards

SUMMARY: The Office of International Visitors of the Division of Professional and Cultural Exchanges, of the Bureau of Educational and Cultural Affairs (ECA/PE/V), United States Department of State (DoS) announces an open competition for assistance awards to develop and implement International Visitor Programs (IVP). The IVP seeks to increase mutual understanding between the U.S. and foreign publics through carefully designed professional programs for approximately 4,600 foreign visitors per year from all regions of the world. The awards will fund programming for a minimum of 100 and a maximum of 550 International Visitors (IVs). Funding will be for FY-2004 (October 1, 2003—September 30, 2004). Public and private non-profit organizations meeting the provisions described in Internal Revenue Code section 26 U.S.C. 501(c)(3) and not already receiving Office of International Visitor assistance awards for FY-2004 may submit proposals. [See Project Objectives, Goals and Implementation (POGI) for definitions of program-related terminology.]

The intent of this announcement is to provide the opportunity for organizations to develop and implement a variety of programs for International Visitors from multiple regions of the world or from a single region. (Please refer to POGI for breakdown of regions). The award recipients will function as national program agencies (NPAs) and will work closely with Department of State Bureau staff, who will guide them through programmatic, procedural and budgetary issues for the full range of IV programs. (Hereafter, the terms “award recipient” and “national program agency” will be used interchangeably to refer to the grantee organization(s).)

Program Information

Overview: The International Visitor program seeks to increase mutual understanding between the U.S. and foreign publics through carefully designed professional programs. IV programs support U.S. foreign policy objectives. Participants are current or potential foreign leaders in government, politics, media, education, science, labor relations, NGOs, the arts, and other key fields. They are selected by officers of U.S. embassies overseas and approved by the DoS staff in Washington, DC. Since the program's inception in 1940, there have been more than 140,000 distinguished participants in the program. Almost 200 program alumni subsequently became heads of state or government in their home countries. All IV programs must maintain a non-partisan character.

The Bureau seeks proposals from non-profit organizations for development and implementation of professional programs for Bureau-sponsored International Visitors to the U.S. Once the awards are made, separate proposals will be required for each group project [Single Country (SCP)*, Sub-Regional (SRP)*, Regional (RP)*, and Multi-Regional (MRP)*] as well as less formal proposals for Individual and Individuals Traveling Together (ITT)* programs. At this time proposals are not required for Voluntary Visitor (VolVis)* programs. Each program will be focused on a substantive theme. Some typical IV program themes are: (1) U.S. foreign policy; (2) U.S. government and political system; (3) economic development; (4) education; (5) media; (6) information technology; (7) freedom of information; (8) NGO management; (9) women's issues; (10) tolerance and diversity; (11) counter-terrorism; (12) democracy and human rights; (13) rule of law; (14) international crime; and (15) environmental issues.* IV programs must conform to all Bureau requirements and guidelines. *Please refer to the Program Objectives, Goals, and Implementation (POGI) document for a more detailed description of each type of IV program.

Guidelines: Goals and objectives for each specific IV program will be shared with the award recipients at an appropriate time following the announcement of the assistance awards. DoS will provide close coordination and guidance throughout the duration of the awards. Award recipients will consult closely with the responsible ECA/PE/V Program Officer throughout the development, implementation, and evaluation of each IV program. They should demonstrate the potential to develop the following types of programs.

1. Programs must contain substantive meetings that focus on foreign policy goals and program objectives and are presented by experts. Meetings, site visits, and other program activities should promote dialogue between participants and their U.S. professional counterparts. Programs must be balanced to show different sides of an issue.

2. Most programs will be 21 to 30 days in length and will begin in Washington, D.C., with an orientation and overview of the issues and a central examination of federal policies regarding these issues. Well-paced program itineraries usually include visits to four or five communities. Program itineraries ideally include urban and rural small communities in diverse geographical and cultural regions of the U.S., as appropriate to the program theme.

3. Programs should provide opportunities for participants to experience the diversity of American society and culture. Participants in RPs or MRPs are divided into smaller sub-groups for simultaneous visits to different communities, with subsequent opportunities to share their experiences with the full group once it is reunited.

4. Programs may provide opportunities for the participants to share a meal or similar experience (home hospitality) in the homes of Americans of diverse occupational, age, gender, and ethnic groups. Some individual and group programs might include an opportunity for an overnight stay (home stay) in an American home.

5. Programs should provide opportunities for participants to address student, civic and professional groups in relaxed and informal settings.

6. Participants should have appropriate opportunities for site visits and hands-on experiences that are relevant to program themes. The award recipients may propose professional “shadowing” experiences with U.S. professional colleagues for some programs; (A typical shadowing experience means spending a half- or full-workday with a professional counterpart.)

7. Programs should also allow time for participants to reflect on their experiences and, in group programs, to share observations with program colleagues. Participants should have opportunities to visit cultural and tourist sites; and

8. The award recipients must make arrangements for community visits through affiliates of the NCIV. In cities where there is no such council, the award recipients will arrange for coordination of local programs.

Qualifications

1. Applicants' proposals must demonstrate four years of successful experience in coordinating international exchanges.

2. Applicants' proposals must demonstrate the ability to develop and administer IV programs.

3. Proposals should demonstrate an applicant's broad knowledge of international relations and U.S. foreign policy issues.

4. Proposals should demonstrate an applicant's broad knowledge of the United States and U.S. domestic issues.

5. The award recipients must have a Washington, D.C. presence. Applicants who do not currently have a Washington, DC presence must include a detailed plan in their proposal for establishing such a presence by October 1, 2003. The costs related to establishing such a presence must be borne by the award recipient. No such costs may be included in the budget submission in this proposal. The award recipient must have e-mail capability, access to Internet resources, and the ability to exchange data electronically with all partners involved in the International Visitor program.

6. Proposals should demonstrate that an applicant has an established resource base of programming contacts and the ability to keep the base continuously updated. This resource base should include speakers, thematic specialists, or practitioners in a wide range of professional fields in both the private and public sectors.

7. All proposals must demonstrate sound financial management.

8. All proposals must contain a sound management plan to carry out the volume of work outlined in the Solicitation. This plan should include an appropriate staffing pattern and a work plan/time frame.

9. Applicants must include in their proposal narrative a discussion of “lessons learned” from past exchanges coordination experience, and how these will be applied in implementing the International Visitor Program.

10. The award recipients must have the capability to utilize the world wide web for the electronic retrieval of program data from the Department of State's IV program website. The award recipient's office technology must be capable of exchanging information with all partners involved in the International Visitor program. The award recipient must have the capability to electronically communicate with the Department of State's standard data exchange mechanism, the Information Exchange and Management System (IEMS) by utilizing either the IEMS application, which can be provided to the award recipient, or an approved DoS interface with the IEMS where legacy system exists. IEMS is a combination of client/server applications which collect program data from DoS missions for the International Visitor office, stores the data electronically, and enables the national program agencies to download and prepare projects for a visitor's stay in the U.S.

11. Applicants must include as a separate attachment under TAB G of their proposals the following:

a. Samples of at least two schedules for international exchange or training programs that they have coordinated within the past four years that they are particularly proud of and that they feel demonstrate their organization's competence and abilities to conduct the activities outlined in the RFGP;

b. Samples of orientation and evaluation materials used in past international exchange or training programs.

Requirements for Past Performance References

Instead of Letters of Endorsement, DoS will use past performance as an indicator of an applicant's ability to successfully perform the work. TAB E of the proposal must contain between three and five references who may be called upon to discuss recently completed or ongoing work performed for professional exchange programs (may include the IV program). The reference must contain the information outlined below. Please note that the requirements for submission of past performance information also apply to all proposed sub recipients when the total estimated cost of the sub award is over $100,000.

At a minimum, the applicant must provide the following information for each reference:

• Name of the reference organization

• Project name

• Project description

• Performance period of the contract/grant

• Amount of the contract/grant

• Technical contact person and telephone number for referenced organization

• Administrative contact person and telephone number for referenced organization

DoS may contact representatives from the organizations cited in the examples to obtain information on the applicant's past performance. DoS also may obtain past performance information from sources other than those identified by the applicant.

Personnel: Applicants must include complete and current resumes of the key personnel who will be involved in the program management, design and implementation of IV programs. Each resume is limited to two pages per person.

Budget Guidelines

Applicants are required to submit a comprehensive line-item administrative budget in accordance with the instructions in the Solicitation Package (Proposal Submission Instructions.) The submission must include a summary budget and a detailed budget showing all administrative costs. Proposed staffing and costs associated with staffing must be appropriate to the requirements outlined in the RFGP and in the Solicitation Package. Cost sharing is encouraged and should be shown in the budget presentation.

The Department of State is seeking proposals from public and private non-profit organizations that are not already in communication with DoS regarding an FY-2004 assistance award from ECA/PE/V. All applicants must have four years' experience conducting international exchanges; an ability to closely consult with DoS staff throughout program administration; and proven fiscal management integrity. Please refer to the Solicitation Package for complete budget guidelines and formatting instructions.

Announcement Title and Number: All correspondence with the Bureau concerning this RFGP should reference the above title and number ECA/PE/V-04-01.

FOR FURTHER INFORMATION, CONTACT: The Office of International Visitors, Janet B. Beard, Chief, Group Projects Division (ECA/PE/V/P) by e-mail (jbeard@pd.state.gov) to request a Solicitation Package or with specific questions. The Solicitation Package contains detailed award criteria, required application forms, specific budget instructions, and standard guidelines for proposal preparation.

Please read the complete Federal Register announcement before sending inquiries or submitting proposals. Once the RFGP deadline has passed, Bureau staff may not discuss this competition with applicants until the proposal review process has been completed.

To Download a Solicitation Package Via Internet

The entire Solicitation Package may be downloaded from the Bureau's Web site at http://exchanges.state.gov/education/RFGPs. Please read all information before downloading.

Deadline for Proposals

All proposal copies must be received at the Bureau of Educational and Cultural Affairs by 5 p.m. Washington, DC time on March 31, 2003. Faxed documents will not be accepted at any time. Documents postmarked the due date but received on a later date will not be accepted. Each applicant must ensure that the proposals are received by the above deadline.

Applicants must follow all instructions in the Solicitation Package. The original and twelve copies of the application should be sent to: U.S. Department of State, SA-44, Bureau of Educational and Cultural Affairs, Ref.: ECA/PE/V-04-01, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Visa Requirements: Programs must comply with J-1 visa regulations. Please refer to Solicitation Package for further information.

Adherence to All Regulations Governing the J Visa

The Bureau of Educational and Cultural Affairs places great emphasis on the secure and proper administration of Exchange Visitor (J visa) Programs and adherence by grantees, program sponsors, and participants to all regulations governing the J visa program status. Therefore, proposals should demonstrate the applicant's capacity to meet all requirements governing the administration of Exchange Visitor Programs as set forth in 22 CFR 6Z. If the applicant is a designated Exchange Visitor Program Sponsor the applicant should provide evidence of their compliance with 22 CFR 6Z et. seq., including the oversight of their Responsible Officers and Alternate Responsible Officers, screening and selection of program participants, provision of pre-arrival information and orientation to participants, monitoring of participants, proper maintenance and security of forms, record-keeping, reporting and other requirements.

ECA will be responsible for issuing DS-2019 forms to participants in this program. A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, Fax: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards or cooperative agreements resides with the Bureau's Grants Officer.

Review Criteria

Technically eligible applications will be competitively reviewed according to the criteria stated below. These criteria are not rank ordered and all carry equal weight in the proposal evaluation:

1. Evidence of Understanding/Program Planning: The proposal should convey that the applicant has a good understanding of the overall goals and objectives of the IV Program. It should exhibit originality, substance, precision, and be responsive to requirements stated in the RFGP and the Solicitation Package. The proposal should contain a detailed and relevant work plan that demonstrates substantive intent and logistical capacity. The plan should adhere to the program overview and guidelines cited in the RFGP.

2. Support of Diversity: Proposals should demonstrate substantive support of the Bureau's policy on diversity. Achievable and relevant features should be cited in both program administration (selection of participants, program venue and program evaluation) and program content (orientation and wrap-up sessions, program meetings, resource materials and follow-up activities).

3. Institutional Capacity: The award recipient must have a Washington, DC presence. Applicants who do not currently have a Washington, DC presence must include a detailed plan in their proposal for establishing such a presence by October 1, 2003. The costs related to establishing such a presence must be borne by the award recipient. No such costs may be included in the budget submission in this proposal. The proposal should clearly demonstrate the applicant's capability for performing the type of work required by the IV Program and how the institution will execute its program activities to meet the goals of the IV program. It should reflect the applicant's ability to design and implement, in a timely and creative manner, professional exchange programs which encompass a variety of project themes. Proposed personnel and institutional resources should be adequate and appropriate to achieve the program goals. Finally, the proposal also must demonstrate that the applicant has or can recruit adequate and well-trained staff.

4. Institution's Record/Ability: The proposal should demonstrate an institutional record of a minimum of four years of successful experience in conducting IV or other professional exchange programs, which are similar in nature and magnitude to the scope of work outlined in this solicitation. Note that evidence of success includes responsible fiscal management and full compliance with all reporting requirements such as those set out for DoS cooperative agreements. The applicant must demonstrate the potential for programming IV participants from multiple regions of the world or from a single region.

5. Cost-effectiveness/Cost-sharing: The administrative and indirect cost components of the proposal, including salaries, should be kept as low as possible. Consideration will be given to proposed cost-sharing through other private sector support and institutional direct funding contributions.

6. Project Evaluation: Proposals should demonstrate how national program agencies would coordinate with ECA/PE/V program officers on evaluation efforts for IV projects. Examples of methods that could be used are participation of national program agency program officers in the final evaluation sessions of IV projects, and submission of final written reports on those projects to ECA/PE/V.

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * *and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to accept proposals in whole or in part and make an award or awards in accordance with what best serves the interests of the International Visitor Program. The Bureau also reserves the right to reduce, revise, or increase proposal budgets in accordance with the needs of the program and the availability of funds. Awards made will be subject to periodic reporting and evaluation requirements.

Notification

Final awards cannot be made until funds have been appropriated by Congress, allocated and committed through internal Bureau procedures.

Dated: January 16, 2003.
C. Miller Crouch,
Acting Assistant Secretary for Educational and Cultural Affairs, Department of State.

[FR Doc. 03-1463 Filed 1-22-03; 8:45 am]

BILLING CODE 4710-05-P